DEPARTMENT OF LABOR

Employment and Training Administration

[TA-W-54,669 and TA-W-54,669A]

American Meter Company Erie, PA and Calexico, CA; Amended Certification Regarding Eligibility To Apply for Worker Adjustment Assistance and Alternative Trade Adjustment Assistance

In accordance with section 223 of the Trade Act of 1974 (19 U.S.C. 2273) the Department Labor issued a Certification of Eligibility to Apply for Worker Adjustment Assistance and Alternative Trade Adjustment Assistance on April 23, 2004, applicable to workers of American Meter Company, Erie, Pennsylvania. The notice will be published soon in the Federal Register.

At the request of a company official, the Department reviewed the certification for workers of the subject firm. The workers are engaged in the production of natural gas meters and natural gas regulator components.

New findings show that worker separations occurred at the Calexico, California facility of the subject firm. Workers at the Calexico facility provided purchasing, warehouse scheduling and secretarial functions supporting the production of natural gas meters and natural gas regulator components at the Erie, Pennsylvania location of the subject firm.

Accordingly, the Department is amending the certification to cover workers at American Meter Company, Calexico, California.

The intent of the Department's certification is to include all workers of American Meter Company who were adversely affected by increased imports.

The amended notice applicable to TA-W-54,669 is hereby issued as follows:

All workers of American Meter Company, Erie, Pennsylvania (TA-W-54,669) and American Meter Company, Calexico, California (TA-W-54,669A), who became totally or partially separated from employment on or after April 2, 2003, through April 23, 2006, are eligible to apply for adjustment assistance under Section 223 of the Trade Act of 1974, and are also eligible to apply for alternative trade adjustment assistance under Section 246 of the Trade Act of 1974.

Signed at Washington DC, this 11th day of May 2004.
Richard Church,
Certifying Officer, Division of Trade Adjustment Assistance.

[FR Doc. 04-11621 Filed 5-21-04; 8:45 am]

BILLING CODE 4510-30-P